DEPARTMENT OF LABOR

Employment and Training Administration

[TA-W-53,934]

Phillips Plastics Corp., Operations Center, Eau Claire, WI; Notice of Revised Determination on Reconsideration

By application of February 18, 2004, the petitioner requested administrative reconsideration regarding the Department's Negative Determination Regarding Eligibility to Apply for Worker Adjustment Assistance, applicable to the workers of the subject firm.

The initial investigation resulted in a negative determination issued on January 14, 2004, based on the finding that the petitioning workers did not produce an article within the meaning of section 222 of the Act. The denial notice was published in the Federal Register on February 6, 2004 (69 FR 5866).

Pursuant to the receipt of the request for reconsideration, and upon contact with the company official, it has become apparent that workers of Phillips Plastics Corporation, Operations Center, Eau Clair, Wisconsin provided accounting, human resources and information technology services to affiliated facilities. It was further revealed that the worker separations from the subject firm were caused by a reduced demand for their services from several subdivisions whose workers produce an article and who are currently under certification for TAA.

Conclusion

After careful review of the facts obtained in the investigation, I determine that workers of Phillips Plastics Corporation, Operations Center, Eau Clair, Wisconsin qualify as adversely affected secondary workers under section 222 of the Trade Act of 1974. In accordance with the provisions of the Act, I make the following certification:

“All workers of Phillips Plastics Corporation, Operations Center, Eau Clair, Wisconsin, who became totally or partially separated from employment on or after December 31, 2002, through two years from the date of this certification, are eligible to apply for adjustment assistance under section 223 of the Trade Act of 1974.”

Signed in Washington, DC, this 18th day of March, 2004.
Richard Church,
Certifying Officer, Division of Trade Adjustment Assistance.

[FR Doc. 04-7750 Filed 4-5-04; 8:45 am]

BILLING CODE 4510-30-P